DEPARTMENT OF STATE

Inspector General

[Public Notice 3789]

State Department Performance Review Board Members (Office of Inspector General)

In accordance with section 4314 (c) (4) of the Civil Service Reform Act of 1978 (Pub. L. 95-454), the Office of Inspector General of the Department of State has appointed the following individuals to its Performance Review Board register.

William E. Todd, Executive Director, Office of the Executive Director, Office of the Chief Financial Officer, Department of State

Thomas D. Roslewicz, Deputy Inspector General for Audits, Department of Health and Human Services

Sanders Gersen, Deputy Assistant Inspector General for Audits, Office of Personnel Management

Dated: September 18, 2001.
Clark Kent Ervin,
Inspector General, U.S. Department of State.

[FR Doc. 01-23908 Filed 9-24-01; 8:45 am]

BILLING CODE 4710-42-P